DEPARTMENT OF COMMERCE

National Oceanic and Atmospheric Administration

RIN 0648-XF345

Fisheries of the South Atlantic; South Atlantic Fishery Management Council; Public Meeting

AGENCY: National Marine Fisheries Service, National Oceanic and Atmospheric Administration, Commerce.

ACTION: Notice of meeting of the South Atlantic Fishery Management Council's (Council) Law Enforcement Advisory Panel (AP).

SUMMARY: The South Atlantic Fishery Management Council will hold a meeting of its Law Enforcement AP in Charleston, SC. The meeting is open to the public.

DATES: The meeting will be held on Thursday, May 18, 2017, from 9 a.m. until 5 p.m., and Friday, May 19, 2017, from 9 a.m. until 12 p.m.

ADDRESSES: Meeting address: The meeting will be held at the Town and Country Inn, 2008 Savannah Highway, Charleston, SC 29407; phone: (800) 334-6660 or (843) 571-1000.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone (843) 571-4366 or toll free (866) SAFMC-10; fax: (843) 769-4520; email: kim.iverson@safmc.net.

SUPPLEMENTARY INFORMATION: Members of the AP will receive updates on amendments to fishery management plans currently under development by the Council and recently approved amendments, an update on the law enforcement component of an electronic reporting pilot program for charter vessels, discuss possible changes to Operator Permits to improve their utility, discuss enforcement of fishery closures, discuss retention of recreational bag limits when citations are issued, and address other topics relative to fisheries law enforcement as appropriate.

Members of the AP will discuss items and provide recommendations as appropriate.

Special Accommodations

These meetings are physically accessible to people with disabilities. Requests for auxiliary aids should be directed to the Council office (see ADDRESSES) 5 days prior to the meeting.

Note: The times and sequence specified in this agenda are subject to change.

Dated: April 5, 2017.
Tracey L. Thompson,
Acting Deputy Director, Office of Sustainable Fisheries, National Marine Fisheries Service.

[FR Doc. 2017-07124 Filed 4-7-17; 8:45 am]

BILLING CODE 3510-22-P